POSTAL SERVICE

39 CFR Part 111

Price Marking Requirements for Commercial Base and Commercial Plus Pricing

AGENCY: Postal Service™.

ACTION: Final rule.

SUMMARY: The Postal Service is implementing new price marking requirements on Express Mail® and Priority Mail® pieces mailed at commercial base and commercial plus prices. The new markings are needed to fulfill our revenue reporting and revenue assurance requirements.

DATES: Effective Date: November 2, 2009.

FOR FURTHER INFORMATION CONTACT: Monica Grein, 202-268-8411.

SUPPLEMENTARY INFORMATION: On April 3, 2009, the Postal Service published a Federal Register proposed rule (Volume 74, Number 63, pages 15226-15227) inviting comments on a revision to require price markings on Express Mail and Priority Mail pieces mailed at commercial base and commercial plus prices. We received two sets of comments. After reviewing those comments, and upon further consideration of the proposed revisions, the Postal Service has decided to adopt the proposed regulations with no revisions.

As noted in the SUPPLEMENTARY INFORMATION section of the proposed rule, the Postal Service is revising the Mailing Standards of the United States Postal Service, Domestic Mail Manual (DMM®) to require price markings on Express Mail and Priority Mail pieces mailed at the commercial base or the commercial plus prices. The new markings will help us determine which price was applied to these pieces, and verify that the pieces qualify for the price claimed. The markings must appear on pieces paid by any means except permit imprint or Express Mail Corporate Account.

Under this final rule, mailers must print or produce as part of the meter imprint or PC Postage® indicia—“Commercial Base Price,” “Commercial Base Pricing,” or “ComBasPrice,” for pieces paid at the Commercial Base price; and “Commercial Plus Price,” “Commercial Plus Pricing,” or “ComPlsPrice” for pieces paid at the Commercial Plus price. The appropriate marking must appear directly above, directly below, or to the left of the postage.

Evaluation of Comments Received

The Postal Service received two sets of comments. Both of the comments suggested that the Postal Service allow the markings “Express CBP” and “Priority CBP.” We have decided not to add these markings to the list of acceptable price markings because “Priority Mail” and “Express Mail” are trademarks owned by the Postal Service for expedited delivery services and expedited delivery packaging. The use of an incomplete trademark, i.e., the single words “Priority” or “Express” on “Priority Mail” pieces or “Express Mail” pieces is unacceptable to the Postal Service.

One commenter also asked that we extend our effective date past the 90 days we proposed. Even though the Postal Service thinks 90 days is sufficient time to conform to this rule, mailers requiring additional time may submit a request for an exception to the Manager, Mailing Standards. Requests will be evaluated based on the circumstances of the individual mailer's progress towards transition.

The Postal Service adopts the following changes to Mailing Standards of the United States Postal Service, Domestic Mail Manual (DMM®), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

400 Commercial Parcels

* * * * *

402 Elements on the Face of a Mailpiece

* * * * *

2.0 Placement and Content of Markings

[Renumber 2.1 through 2.5 as 2.2 through 2.6 and add new 2.1, Express Mail and Priority Mail Markings, as follows:]

2.1 Express Mail and Priority Mail Markings

Except for pieces paid using permit imprint or an Express Mail Corporate Account, Express Mail and Priority Mail pieces claiming the commercial base or commercial plus price must bear the appropriate price marking, printed on the piece or produced as part of the meter imprint or PC Postage indicia. Place the marking directly above, directly below, or to the left of the postage. Markings are as follows: a. “Commercial Base Price,” “Commercial Base Pricing,” or “ComBasPrice.” b. “Commercial Plus Price,” “Commercial Plus Pricing,” or “ComPlsPrice.”

* * * * *

410 Express Mail

* * * * *

415 Mail Preparation

[Reorganize and revise section 1.0 by adding a new 1.2 as follows:]

1.0 General Information for Mail Preparation

1.1 Express Mail Packaging Provided by the USPS

Express Mail packaging provided by the USPS must be used only for Express Mail. Regardless of how the packaging is reconfigured or how markings may be obliterated, any material mailed in USPS-provided Express Mail packaging is charged the appropriate Express Mail price.

1.2 Price Marking

Except for pieces paid using an Express Mail Corporate Account, Express Mail pieces claiming the commercial base or commercial plus price must bear the appropriate price marking, printed on the piece or produced as part of the meter imprint or PC Postage indicia. Place the marking directly above, directly below, or to the left of the postage. Markings are as follows:

a. “Commercial Base Price,” “Commercial Base Pricing,” or “ComBasPrice.”

b. “Commercial Plus Price,” “Commercial Plus Pricing,” or “ComPlsPrice.”

* * * * *

420 Priority Mail

* * * * *

425 Mail Preparation

* * * * *

2.0 Marking

[Reorganize and revise section 2.0 as follows:]

2.1 Product Marking

The marking “Priority Mail” must be placed prominently on the address side of each piece of Priority Mail.

2.2 Price Marking

Except for pieces paid using permit imprint, Priority Mail pieces claiming the commercial base or commercial plus price must bear the appropriate price marking, printed on the piece or produced as part of the meter imprint or PC Postage indicia. Place the marking directly above, directly below, or to the left of the postage. Markings are as follows:

a. “Commercial Base Price,” “Commercial Base Pricing,” or “ComBasPrice.”

b. “Commercial Plus Price,” “Commercial Plus Pricing,” or “ComPlsPrice.”

* * * * *

Stanley F. Mires,
Attorney, Legislative.

[FR Doc. E9-16205 Filed 7-14-09; 8:45 am]

BILLING CODE 7710-12-P